DEPARTMENT OF ENERGY

Federal Energy Regulatory Commission

[Docket No. RP00-486-002]

Cove Point LNG Limited Partnership; Notice of Compliance Filing

December 24, 2002.

Take notice that on December 19, 2002, Cove Point LNG Limited Partnership (Cove Point) tendered for filing as part of its FERC Gas Tariff, Second Revised Volume No. 1, First Revised Sheet No. 0; First Revised Sheet No. 136; and First Revised Sheet No. 137.

Cove Point states that its filing serves two purposes: (1) Compliance with Order No. 637 and the Commission order in Docket No. RP00-486 by filing previously approved tariff sheets that were inadvertently not filed; and (2) adoption of a new initial sheet changing the contact person for Cove Point to reflect its current ownership by Dominion Resources, Inc. Cove Point proposes an effective date of December 20, 2002, for the previously approved sheets and of January 19, 2003, for new Sheet No. 0.

Cove Point states that copies have been served upon its customers and interested state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: December 31, 2002.

Linwood A. Watson, Jr.,
Deputy Secretary.

[FR Doc. 02-32967 Filed 12-27-02; 8:45 am]

BILLING CODE 6717-01-P